DEPARTMENT OF ENERGY

Federal Energy Regulatory Commission

[Project No. 3472-024]

Aspinook Hydro, LLC; Notice of Waiver Period for Water Quality Certification Application

On December 3, 2021, Aspinook Hydro, LLC. submitted to the Federal Energy Regulatory Commission (Commission) evidence of its application for a Clean Water Act section 401(a)(1) water quality certification filed with Connecticut Department of Energy and Environmental Protection (Connecticut DEEP), in conjunction with the above captioned project. Pursuant to section 401 of the Clean Water Act ¹ and section 4.34(b)(5), 5.23(b), 153.4, or 157.22 of the Commission's regulations,² a state certifying agency is deemed to have waived its certifying authority if it fails or refuses to act on a certification request within a reasonable period of time, which is one year after the date the certification request was received. Accordingly, we hereby notify the Connecticut DEEP of the following:

¹ 33 U.S.C. 1341(a)(1).

² 18 CFR 4.34(b)(5)/5.23(b)/153.4/157.22.

Date that Connecticut DEEP Received the Certification Request: December 3, 2021.

If Connecticut DEEP fails or refuses to act on the water quality certification request on or before December 3, 2022, then the agency certifying authority is deemed waived pursuant to section 401(a)(1) of the Clean Water Act, 33 U.S.C. 1341(a)(1).

Dated: January 24, 2022.
Kimberly D. Bose,
Secretary.

[FR Doc. 2022-01753 Filed 1-27-22; 8:45 am]

BILLING CODE 6717-01-P